SECURITIES AND EXCHANGE COMMISSION

[File No. 500-1]

In the Matter of Bay Acquisition Corp. (a/k/a SecureLogic Corp.) (n/k/a Goozex Holdings, Inc.), BTHC XV, Inc., Caleco Pharma Corp., and CareAdvantage, Inc., Order of Suspension of Trading

September 4, 2014.

It appears to the Securities and Exchange Commission that there is a lack of current and accurate information concerning the securities of Bay Acquisition Corp. (a/k/a SecureLogic Corp.) (n/k/a Goozex Holdings, Inc.) because it has not filed any periodic reports since the period ended September 30, 2012.

It appears to the Securities and Exchange Commission that there is a lack of current and accurate information concerning the securities of BTHC XV, Inc. because it has not filed any periodic reports since the period ended December 31, 2011.

It appears to the Securities and Exchange Commission that there is a lack of current and accurate information concerning the securities of Caleco Pharma Corp. because it has not filed any periodic reports since the period ended April 30, 2011.

It appears to the Securities and Exchange Commission that there is a lack of current and accurate information concerning the securities of CareAdvantage, Inc. because it has not filed any periodic reports since the period ended September 30, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 4, 2014, through 11:59 p.m. EDT on September 17, 2014.

By the Commission.
Jill M. Peterson,
Assistant Secretary.

[FR Doc. 2014-21393 Filed 9-4-14; 4:15 pm]

BILLING CODE 8011-01-P